DEPARTMENT OF COMMERCE

National Oceanic and Atmospheric Administration

RIN 0648-XA341

Marine Mammals; File No. 15324

AGENCY: National Marine Fisheries Service (NMFS), National Oceanic and Atmospheric Administration (NOAA), Commerce.

ACTION: Notice; receipt of application.

SUMMARY: Notice is hereby given that the Alaska Department of Fish and Game (ADF&G), Division of Wildlife Conservation, Juneau, AK, (Principal Investigator: Michael Rehberg), has applied for an amendment to Scientific Research Permit No. 15324 for taking multiple pinnipeds species in Alaska.

DATES: Written, telefaxed, or email comments must be received on or before May 5, 2014.

ADDRESSES: The application and related documents are available for review by selecting “Records Open for Public Comment” from the Features box on the Applications and Permits for Protected Species (APPS) home page, https://apps.nmfs.noaa.gov, and then selecting File No. 15324 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Courtney Smith, (301)427-8401.

SUPPLEMENTARY INFORMATION: The subject permit is requested under the authority of the Marine Mammal Protection Act of 1972, as amended (MMPA; 16 U.S.C. 1361 et seq.), and the regulations governing the taking and importing of marine mammals (50 CFR part 216).

Permit No. 15324, issued on May 18, 2011 (76 FR 30309), authorizes the permit holder to take spotted (Phoca largha), ringed (Phoca hispida), bearded (Erignathus barbatus), and ribbon seals (Histriophoca fasciata) for scientific research purposes in the Bering, Chukchi, and Beaufort seas of Alaska. The purpose of this research is to monitor the status and health of each species by analyzing biological samples (e.g., blood, blubber, skin, muscle, and whiskers) from the subsistence harvest and live captured seals, and by documenting movements and habitat use by tracking animals with satellite transmitters. The permit holder is also authorized to harass non-target seals of each species and for a limited number of research-related mortalities. Additional biological samples can be imported from Russia, Canada, Svalbard (Norway) and exported to Canada for analyses. The permit is valid through December 31, 2016.

The permit holder is requesting the permit be amended to include authorization for several methodological changes: (1) Adding takes by harassment during aerial and vessel surveys as a method to monitor seal distribution relative to changes in sea ice; (2) increasing number of takes by incidental harassment during seal captures; (3) the use of additional sedative drugs as injectable immobilizing agents during currently permitted capture activities; and (4) the use of remote dart-delivery as a method for capturing bearded seals. The expiration date of the permit would not change.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 1, 2014.
Tammy C. Adams,
Acting Chief, Permits and Conservation Division, Office of Protected Resources, National Marine Fisheries Service.

[FR Doc. 2014-07537 Filed 4-3-14; 8:45 am]

BILLING CODE 3510-22-P